DEPARTMENT OF DEFENSE

Defense Finance and Accounting Service; Privacy Act of 1974; Systems of Records

AGENCY: Defense Finance and Accounting Service, DoD.

ACTION: Notice to Amend a System of Records; T1300 Disbursing Officer Establishment and Appointment Files.

SUMMARY: The Defense Finance and Accounting Service is amending a system of records notice to its existing inventory of record systems subject to the Privacy Act of 1974 (5 U.S.C. 552a), as amended.

DATES: This action will be effective without further notice on September 23, 2005 unless comments are received that would result in a contrary determination.

ADDRESSES: Send comments to Ms. Linda Krabbenhoft, Freedom of Information Act/Privacy Act Program Manager, Defense Finance and Accounting Service, Denver, 6760 E. Irvington Place, Denver, CO 80279-8000, telephone (303) 676-6045.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: August 17, 2005.
Jeannette Owings-Ballard,
OSD Federal Register Liaison Officer, Department of Defense.

T1300

System name:

Disbursing Officer Establishment and Appointment Files (August 30, 2000, 65 FR 52715).

Changes:

* * * * *

Retention and disposal:

Delete entry and replace with “Destroy 4 years after cutoff.”

* * * * *

T1300

System name:

Disbursing Officer Establishment and Appointment Files.

System location:

Defense Finance and Accounting Service—Cleveland Center, 1240 East 9th Street, Cleveland, OH 44199-2055.

Defense Finance and Accounting Service—Kansas City Center, 1500 East 95th Street, Kansas City, MO 64197-0001.

Defense Finance and Accounting Service—Indianapolis Center, 8899 East 56th Street, Indianapolis, IN 46249-0001.

Defense Finance and Accounting Service—Denver Center, 6760 East Irvington Place, Denver, CO 80279-5000.

Defense Finance and Accounting Service—Columbus Center, 4280 East 5th Avenue, Building 3, Columbus, OH 43218-2317.

Categories of individuals covered by the system:

Military members and DoD civilians who are appointed as deputies and individuals appointed as accountable disbursing officers.

Categories of records in the system:

Records include forms for designation and appointment of deputy and disbursing officer, letters to Federal Reserve banks, and requests for approval and appointment of accountable officers; appointment letters; commencement of disbursing duty letters; Financial Management Service Forms 3023, Specimen Signatures and 5583, Signature Card.

Authority for maintenance of the system:

5 U.S.C. 301, Departmental Regulations; DoD 7000.14-R, DoD Financial Management Regulation; DFAS 005, Delegation of Statutory Authority; and E.O. 9397 (SSN).

Purpose(s):

Information is used to determine whether an individual has held an accountable position in the past.

To obtain data for the appointment or termination of deputies and the appointment or termination of other than finance officers as accountable officers.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal Reserve banks to verify authority of the accountable individual to issue Treasury checks.

The DoD ‘Blanket Routine Uses’ published at the beginning of the DFAS compilation of systems of records notices apply to this system.

Policies and practices for storing, retrieving, accessing, retaining, and disposing of records in the system:

Storage:

Maintained in file folders, optical disk systems, and computer databases.

Retrievability:

By individual's name, Social Security Number and accounting and disbursing station number.

Safeguards:

As a minimum, records are accessed by person(s) responsible for servicing, and are authorized to use, the record system in performance of their official duties who are properly screened and cleared for need to know. Additionally, at some Centers, records are in office buildings protected by guards and controlled by screening of personnel and registering of visitors.

Retention and disposal:

Destroy 4 years after cutoff.

System manager(s) and address:

Director of Network Operations, Defense Finance and Accounting Service—Cleveland Center, 1240 East 9th Street, Cleveland, OH 44199-2055.

Director of Accounting Operations, Defense Finance and Accounting Service—Kansas City Center, 1500 East 95th Street, Kansas City, MO 64197-0001.

Director of Network Operations, Defense Finance and Accounting Service—Indianapolis Center, 8899 East 56th Street, Indianapolis, IN 46249-0001.

Director of Accounting Operations, Defense Finance and Accounting Service—Denver Center, 6760 East Irvington Place, Denver, CO 80279-5000.

Director of Accounting Operations or Network Operations, Defense Finance and Accounting Service—Columbus Center, 4280 East 5th Avenue, Building 3, Columbus, OH 43218-2317.

Notification procedure:

Individuals seeking to determine whether information about themselves is contained in this system of records should address written inquiries to the Privacy Act Officer at the appropriate DFAS Center.

Individuals should provide sufficient proof of identity, such as full name, Social Security Number, or other information verifiable from the record itself.

Record access procedure:

Individuals seeking access to information about themselves contained in this system of records should address written inquiries to the records management officer or the Privacy Act Officer at the appropriate DFAS Center.

Individual should provide sufficient proof of identity, such as full name, Social Security Number, or other information verifiable from the record itself.

Contesting record procedures:

The DFAS rules for accessing records, for contesting contents and appealing initial agency determinations are published in DFAS Regulation 5400.11-R; 32 CFR part 324; or may be obtained from the Freedom of Information/Privacy Act Program Manager, Office of Corporate Communications, 6760 E. Irvington Place, Denver, CO 80279-8000.

Record source categories:

Finance and accounting officers.

Exemptions claimed for the system:

None.

[FR Doc. 05-16667 Filed 8-23-05; 8:45 am]

BILLING CODE 5001-06-P